SMALL BUSINESS ADMINISTRATION

Solutions Capital I, L.P.; License No. 03/03-0247; Notice Seeking Exemption Under Section 312 of the Small Business Investment Act, Conflicts of Interest

Notice is hereby given that Solutions Capital I, L.P., 1100 Wilson Blvd, Suite 3000, Arlington, VA 22209, a Federal Licensee under the Small Business Investment Act of 1958, as amended (“the Act”), in connection with the financing of a small concern, has sought an exemption under § 312 of the Act and § 107.730, Financings which constitute conflicts of interest, of the Small Business Administration Rules and Regulations (13 CFR part 107). Solutions Capital I, L.P. proposes to provide debt and equity financing to Orbitel Holdings, LLC, 21116 N. John Wayne Parkway, Suite B-9, Maricopa, AZ 85139. The financing is contemplated for Orbitel Holdings, LLC's acquisition of another company.

The financing is brought within the purview of § 107.730(a) of the Regulations because MCG Capital Corporation, an Associate of Solutions Capital I, L.P., has a greater than 10% equity interest in Orbitel Holdings, LLC, thereby making Orbitel Holdings, LLC an Associate of Solutions Capital I, L.P., as defined in § 107.50 of the Regulations.

Notice is hereby given that any interested person may submit written comments on the transaction to the Associate Administrator for Investment, U.S. Small Business Administration, 409 Third Street, SW., Washington, DC 20416.

Sean J. Greene,
Associate Administrator for Investment and Innovation.

[FR Doc. 2011-10492 Filed 4-29-11; 8:45 am]

BILLING CODE 8025-01-P